NUCLEAR REGULATORY COMMISSION

[Docket No. 50-271; ASLBP No. 04-832-02-OLA]

Entergy Nuclear Vermont Yankee, LLC, and Entergy Operations, Inc.; Establishment of Atomic Safety and Licensing Board

Pursuant to delegation by the Commission dated December 29, 1972, published in the Federal Register, 37 Fed. Reg. 28,710 (1972), and the Commission's regulations, see 10 CFR 2.104, 2.300, 2.303, 2.309, 2.311, 2.318, and 2.321, notice is hereby given that an Atomic Safety and Licensing Board is being established to preside over the following proceeding: Entergy Nuclear Vermont Yankee, LLC, and Entergy Operations, Inc. Vermont Yankee Nuclear Power Station (Operating License Amendment).

This proceeding concerns hearing requests submitted on August 30, 2004, by the Vermont Department of Public Service and the New England Coalition of Brattleboro, Vermont. Those requests, which were filed in response to a June 15, 2004 notice of consideration of issuance of facility operating license amendment and opportunity for hearing published in the Federal Register on July 1, 2004 (69 FR 39976), challenge the request of Entergy Nuclear Vermont Yankee, LLC, and Entergy Operations, Inc., to change the operating license for the Vermont Yankee Nuclear Power Station to increase the maximum authorized power level from 1593 megawatts thermal (MWt) to 1912 MWt, an increase of approximately twenty percent above the current maximum authorized power level.

The Board is comprised of the following administrative judges:

Alex S. Karlin, Chair, Atomic Safety and Licensing Board Panel, U.S. Nuclear Regulatory Commission, Washington, DC 20555-0001.

Dr. Anthony J. Baratta, Atomic Safety and Licensing Board Panel, U.S. Nuclear Regulatory Commission, Washington, DC 20555-0001.

Lester S. Rubenstein, Atomic Safety and Licensing Board Panel, U.S. Nuclear Regulatory Commission, Washington, DC 20555-0001.

All correspondence, documents, and other materials shall be filed with the administrative judges in accordance with 10 CFR 2.302.

Issued at Rockville, Maryland, this 14th day of September 2004.
G. Paul Bollwerk, III,
Chief Administrative Judge, Atomic Safety and Licensing Board Panel.

[FR Doc. 04-21256 Filed 9-21-04; 8:45 am]

BILLING CODE 7590-01-P